DEPARTMENT OF THE INTERIOR

Bureau of Indian Affairs

Indian Gaming

AGENCY: Bureau of Indian Affairs, Interior.

ACTION: Notice of Deemed Approved Technical Amendment between the State of Wisconsin and the Forest County Potawatomi Community.

SUMMARY: Pursuant to Section 11 of the Indian Gaming Regulatory Act of 1988 (IGRA), Pub. L. 100-497, 25 U.S.C 2710, the Secretary of the Interior shall publish, in the Federal Register, notice of approved Tribal-State Compacts for the purpose of engaging in Class III gaming activities on Indian lands. The Assistant Secretary—Indian Affairs, Department of the Interior, through her delegated authority, is publishing notice that the Technical Amendment to the Class III gaming compact between the State of Wisconsin and the Forest County Potawatomi Community is considered approved. By the terms of IGRA, the Technical Amendment is considered approved, but only to the extent the compact is consistent with the provisions of IGRA. The Technical Amendment provides the following: application of the arbitration section to the payment section of the Compact; deletion of payment to the University of Wisconsin; provision that state law will apply for any reimbursement payments to the tribe; and waiver of all sovereign immunity with respect to the enforcement of any provision of this Compact.

EFFECTIVE DATE: September 8, 2003.

FOR FURTHER INFORMATION CONTACT: George T. Skibine, Director, Office of Indian Gaming Management, Bureau of Indian Affairs, Washington, DC 20240, (202) 219-4066.

Dated: August 26, 2003.
Aurene M. Martin,
Assistant Secretary—Indian Affairs.

[FR Doc. 03-22788 Filed 9-5-03; 8:45 am]

BILLING CODE 4310-4N-P